DEPARTMENT OF AGRICULTURE

Rural Business-Cooperative Service

Notice of Request for Extension of a Currently Approved Information Collection

AGENCY: Rural Business-Cooperative Service, USDA.

ACTION: Notice and request for comments.

SUMMARY: In accordance with the Paperwork Reduction Act of 1995, this notice announces the Rural Business-Cooperative Service intention to request an extension for a currently approved information collection in support of the Repowering Assistance Program (OMB No. 0570-0066).

DATES: Comments on this notice must be received by June 2, 2014.

Additional Information Or Comments: Contact Todd Hubbell, Branch Chief, Energy Division, Repowering Assistance Program, U.S. Department of Agriculture, 1400 Independence Avenue SW., Room 6865, Washington, DC 20250. Telephone: 202-690-2516. Email: Todd.Hubbell@wdc.usda.gov.

SUPPLEMENTARY INFORMATION: Title: Repowering Assistance Program.

OMB Number: OMB No. 0570-0066.

Expiration Date of Approval: June 30, 2014.

Type of Request: Extension and revision of a currently approved information Collection.

Abstract: Authorized under Section 9004 of the Food, Conservation, and Energy Act of 2008, the purpose of this program is to provide financial incentives to biorefineries to replace the use of fossil fuels used to produce heat or power at their facilities by installing new systems that use renewable biomass, or to produce new energy from renewable biomass.

Estimate of Burden:

Estimated Number of Respondents: 7.

Estimated Number of Responses per Respondent: 10.

Estimated Number of Responses: 70.

Estimated Total Annual Burden on Respondents: 602 Hours.

Copies of this information collection can be obtained from Jeanne Jacobs, Regulations and Paperwork Management Division, at (202) 692-0040.

Comments: Comments are invited on: (a) Whether the proposed collection of information is necessary for the proper performance of the functions of RBS, including whether the information will have practical utility; (b) the accuracy of the RBS' estimate of the burden of the proposed collection of information, including the validity of the methodology and assumptions used; (c) ways to enhance the quality, utility, and clarity of the information to be collected; and (d) ways to minimize the burden of the collection of information on those who are to respond, including through the use of appropriate automated, electronic, mechanical, or other technological collection techniques or forms of information technology. Comments may be sent to Jeanne Jacobs, Regulation and Paperwork Management Branch, Support Services Division, U.S. Department of Agriculture, Rural Development, STOP 0742, Washington, DC 20250-0742. All responses to this notice will be summarized and included in the request for OMB approval. All comments will also become a matter of public record.

Dated: March 27, 2014.
Lillian Salerno,
Administrator, Rural Business-Cooperative Service.

[FR Doc. 2014-07297 Filed 4-1-14; 8:45 am]

BILLING CODE 3410-XY-P